GENERAL SERVICES ADMINISTRATION

Notice of Intent To Prepare a Supplemental Environmental Impact Statement for the Proposed Update to the Master Plan for the Consolidation of the Food and Drug Administration Headquarters at the Federal Research Center at White Oak in Silver Spring, MD

AGENCY: General Service Administration (GSA); National Capital Region.

ACTION: Notice.

SUMMARY: Pursuant to the requirements of the National Environmental Policy Act of 1969 (NEPA), the Council on Environmental Quality Regulations (40 CFR parts 1500-1508), GSA Order PBS P1095.1F (Environmental considerations in decisionmaking, date October 19, 1999), and the GSA Public Buildings Service NEPA Desk Guide, GSA plans to prepare a Supplemental Environmental Impact Statement (SEIS) for the proposed update to the Master Plan to support the consolidation of the Food and Drug Administration (FDA) Headquarters at the Federal Research Center at White Oak in Silver Spring, Maryland.

FOR FURTHER INFORMATION CONTACT: Suzanne Hill, NEPA Lead, General Services Administration, National Capital Region, at (202) 205-5821. Please also call this number if special assistance is needed to attend and participate in the scoping meeting.

SUPPLEMENTARY INFORMATION: The notice of intent is as follows:

Notice of Intent To Prepare a Supplement Environmental Impact Statement

The General Services Administration intends to prepare a Supplemental Environmental Impact Statement (SEIS) to analyze the potential impacts resulting from the proposed Master Plan update to support the FDA Headquarters consolidation at the Federal Research Center (FRC) at White Oak in Silver Spring, Maryland.

This SEIS is a supplement to the analyses presented in the U.S. Food and Drug Administration Consolidation, Montgomery County, Final Environmental Impact Statement, April 1997 and the U.S. Food and Drug Administration Headquarters Consolidation, Final Supplemental Environmental Impact Statement, March 2005.

Background

In 1997, GSA completed an environmental impact statement that analyzed the impacts from the consolidation of 5,974 FDA employees at the FRC. In 2005, GSA also completed a supplemental environmental impact statement that analyzed the impacts of increasing the number of employees from 5,947 to 7,720 and the impacts of creating a new eastern access point into the FRC. In September 2007, new legislation was enacted that expanded FDA's mandate to support the Prescription Drug User Fee Act (PDUFA) and the Medical Device User Fee and Modernization Act (MDUFMA). In order for FDA to fulfill the legislated mandates, additional employees may be needed, and the new legislation will likely result in an increase of employees at the FRC from 7,720 to 8,889. The increase in the campus population is needed to conduct the complex and comprehensive reviews necessary for new drugs and medical devices.

The purpose of the proposed action is to update the Master Plan for the FDA Campus at FRC to accommodate employee growth from 7,720 to 8,889 within the 130 acres appropriated by Congress for the FDA Campus. Need for the proposed action is to continue to support FDA Headquarters consolidation at FRC and provide the necessary office and laboratory space to support the expanded PDUFA and MDUFMA programs.

Alternatives Under Consideration

GSA will analyze a range of alternatives including the no action alternative for the proposed Master Plan update of the FDA headquarters to support PDUFA and MDUFMA programs. As part of the SEIS, GSA will study the impacts of each alternative on the human environment.

Scoping Process

In accordance with NEPA, a scoping process will be conducted to aid in determining the alternatives to be considered and the scope of issues to be addressed, as well as for identifying the significant issues related to the proposed update of the Master Plan to accommodate the additional increase in employees at the FDA Headquarters at White Oak, Maryland. Scoping will be accomplished through a public scoping meeting, direct mail correspondence to potentially interested persons, agencies, and organizations, and meetings with agencies having an interest in the FRC. It is important that Federal, regional, State, and local agencies, and interested individuals and groups take this opportunity to identify environmental concerns that should be addressed during the preparation of the Draft SEIS.

Public Scoping Meeting

The public scoping meeting will be held on Thursday, March 27, 2008, from 6:30 until 8:30 p.m. at the CHI Center (Multipurpose Room) located at 10501 New Hampshire Avenue, Silver Spring, Maryland. The meeting will be an informal open house along with a brief presentation, where visitors may come, receive information, and give comments. GSA will publish notices in the Washington Post and local newspapers announcing this meeting approximately two weeks prior to the meeting. GSA will prepare a scoping report, available to the public, that will summarize the comments received and facilitate their incorporation into the SEIS process.

Written Comments: Agencies and the public are encouraged to provide written comments on the scoping issues in addition to or in lieu of giving their comments at the public scoping meeting. Written comments regarding the environmental analysis for the proposed Master Plan update must be postmarked no later than April 7, 2008, and sent to the following address: General Services Administration, Attention: Suzanne Hill, NEPA Lead, 301 7th Street, SW., Room 7600, Washington, DC 20407, (202) 205-5821. E-mail: Suzanne.Hill@gsa.gov.

Dated: March 3, 2008.
Patricia T. Ralston,
Director, Portfolio Management.

[FR Doc. E8-4579 Filed 3-6-08; 8:45 am]

BILLING CODE 6820-14-P